ENVIRONMENTAL PROTECTION AGENCY

[FRL-9775-1]

Clean Air Act Operating Permit Program; Petition for Objection to State Operating Permit for Noranda Alumina, LLC

AGENCY: Environmental Protection Agency (EPA).

ACTION: Notice of final action.

SUMMARY: This document announces that the EPA Administrator has responded to a citizen petition asking EPA to object to an operating permit (Permit Number 2453-V2) issued by the Louisiana Department of Environmental Quality (LDEQ). Specifically, the Administrator has denied the March 28, 2011 petition, submitted by the Louisiana Environmental Action Network (LEAN), Sierra Club, and O'Neil Couvillion (the Petitioners), to object to the operating permit issued on February 15, 2011 to Noranda Alumina, LLC, for the operation of the alumina production plant located in Gramercy, St James Parish, Louisiana. Sections 307(b) and 505(b)(2) of the Act provide that a petitioner may ask for judicial review of those portions of the petition which EPA denies in the United States Court of Appeals for the appropriate circuit. Any petition for review shall be filed within 60 days from the date this notice appears in the Federal Register, pursuant to section 307 of the Act.

ADDRESSES: You may review copies of the final Order, the petition, and other supporting information at EPA Region 6, 1445 Ross Avenue, Dallas, Texas 75202-2733.

EPA requests that if at all possible, you contact the individual listed in the FOR FURTHER INFORMATION CONTACT section to view copies of the final Order, petition, and other supporting information. You may view the hard copies Monday through Friday, from 9:00 a.m. to 3:00 p.m., excluding Federal holidays. If you wish to examine these documents, you should make an appointment at least 24 hours before the visiting day. Additionally, the final Order for Noranda Alumina LLC is available electronically at: http://www.epa.gov/region07/air/title5/petitiondb/petitions/noranda_response2011.pdf.

FOR FURTHER INFORMATION CONTACT: Brad Toups at (214) 665-7258, email address: toups.brad@epa.gov or the above EPA, Region 6 address.

SUPPLEMENTARY INFORMATION: The CAA affords EPA a 45-day period to review, and object to as appropriate, a Title V operating permit proposed by State permitting authorities. Section 505(b)(2) of the CAA authorizes any person to petition the EPA Administrator, within 60 days after the expiration of this review period, to object to a Title V operating permit if EPA has not done so. Petitions must be based only on objections to the permit that were raised with reasonable specificity during the public comment period provided by the State, unless the petitioner demonstrates that it was impracticable to raise these issues during the comment period or the grounds for the issue arose after this period.

EPA received a petition from the Petitioners dated March 28, 2011, requesting that EPA object to the issuance of the Title V operating permit to Noranda Alumina LLC (Noranda), for the operation of the alumina production plant in Gramercy, St. James Parish, Louisiana for the following reasons: (1) The Title V Permit fails to incorporate applicable PSD requirements because: LDEQ violated the PSD public participation requirements; certain stack tests show the NOX emissions exceed PSD thresholds, yet the Title V Permit fails to include applicable PSD requirements for NOX emissions; LDEQ failed to support its conclusion that emissions from the yield improvement project do not trigger PSD review; and LDEQ failed to apply Best Available Control Technology to NOX emissions from the yield improvement project; (2) LDEQ failed to include emission limits for PM2.5 emissions; and (3) the Title V Permit fails to include a case-specific Maximum Achievable Control Technology Standard for Noranda's Industrial Boilers.

On December 14, 2012, the Administrator issued an Order denying the petition. The Order explains the reasons behind EPA's conclusion to deny the petition.

Dated: January 17, 2013.
Ron Curry,
Regional Administrator, Region 6.

[FR Doc. 2013-02229 Filed 1-31-13; 8:45 am]

BILLING CODE 6560-50-P